NUCLEAR REGULATORY COMMISSION

[Docket Nos. 50-483; 50-275; 50-323; 50-321; 50-366; 50-348; 50-364; 50-247; 50-286; 50-333; 50-369; 50-370; 50-245; 50-336; 50-423; 50-338; 50-339; 50-266; 50-301; 50-244; 50-335; 50-389; 50-443; 50-400; 50-498; 50-499; 50-289; 50-250; 50-251; NRC-2020-0110]

Issuance of Multiple Exemptions in Response to COVID-19 Public Health Emergency

AGENCY: Nuclear Regulatory Commission.

ACTION: Exemptions; issuance.

SUMMARY: The U.S. Nuclear Regulatory Commission (NRC) issued 21 exemptions in response to requests from 13 licensees. The exemptions allow these licensees temporary relief from certain requirements under NRC regulations. The exemptions are in response to the COVID-19 public health emergency (PHE). The NRC is issuing a single notice to announce the issuance of the exemptions.

DATES: The 21 exemptions were issued between June 2, 2020, and June 30, 2020.

ADDRESSES: Please refer to Docket ID NRC-2020-0110 when contacting the NRC about the availability of information regarding this document. You may obtain publicly-available information related to this document using any of the following methods:

• Federal Rulemaking Website: Go to https://www.regulations.gov and search for Docket ID NRC-2020-0110. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov.

For the convenience of the reader, instructions about obtaining materials referenced in this document are provided in the “Availability of Documents” section.

FOR FURTHER INFORMATION CONTACT: James Danna, Office of Nuclear Reactor Regulation, U.S. Nuclear Regulatory Commission, Washington, DC 20555-0001; telephone: 301-415-7422, email: James.Danna@nrc.gov.

SUPPLEMENTARY INFORMATION:

I. Introduction

The NRC issued 21 exemptions to 13 licensees in response to requests dated between April 29, 2020, and June 19, 2020. These exemptions temporarily allow the licensees to deviate from certain requirements (as cited below) of various parts of chapter I of title 10 of the Code of Federal Regulations (10 CFR).

The exemption from certain requirements of 10 CFR 50.71(e)(4) for Pacific Gas and Electric Company (for the Diablo Canyon Nuclear Power Plant, Units 1 and 2) allows the licensee to submit revisions of the Updated Final Safety Analysis Report (UFSAR) and Technical Specification (TS) Bases later than it would otherwise be required to by the regulations. The exemption from the requirements of 10 CFR 50.71(e)(4) results in benefit to the public health and safety by not conflicting with practices recommended by the Centers for Disease Control and Prevention (CDC) to limit the spread of COVID-19 and does not result in any decrease in safety. The exemption provides only temporary relief from the applicable regulation and the licensee has made good faith efforts to comply with the regulation.

The exemptions from certain requirements of 10 CFR 50.48(b) and 10 CFR part 50, appendix R, section III.I, for Southern Nuclear Operating Company (for Edwin I. Hatch Nuclear Plant, Unit Nos. 1 and 2, and Joseph M. Farley Nuclear Plant, Units 1 and 2), allow the licensee temporary exemption from the quarterly fire brigade drills requirement and the annual live firefighting training requirement in 10 CFR 50.48(b) and 10 CFR part 50, appendix R, section III.I. These exemptions allow the licensee to temporarily defer implementation of requirements that would otherwise cause the licensee to take actions that could conflict with practices recommended by the CDC to limit the spread of COVID-19. This licensee has committed to implement a station-specific process to manage affected personnel while ensuring the safety of its workers in maintaining performance capability.

The exemptions from certain requirements of 10 CFR part 73 for Union Electric Company (for Callaway Plant, Unit No. 1); Pacific Gas and Electric Company (for the Diablo Canyon Nuclear Power Plant, Units 1 and 2); Southern Nuclear Operating Company (for the Edwin I. Hatch Nuclear Power Plant, Unit Nos. 1 and 2, and the Joseph M. Farley Nuclear Power Plant, Units 1 and 2); Entergy Nuclear Operations, Inc. (for the Indian Point Nuclear Generating Unit Nos. 2 and 3); Exelon Generation Company, LLC (for the James A. FitzPatrick Nuclear Power Plant, R. E. Ginna Nuclear Power Plant, and the Three Mile Island Nuclear Station, Unit 1); Duke Energy Carolinas, LLC (for the McGuire Nuclear Station, Units 1 and 2); Dominion Energy Nuclear Connecticut, Inc. (for the Millstone Power Station, Units Nos. 1, 2, and 3); Virginia Electric and Power Company (for the North Anna Power Station, Unit Nos. 1 and 2); NextEra Energy Point Beach, LLC (for the Point Beach Nuclear Plant, Units 1 and 2); Florida Power & Light Company (for the St. Lucie Plant, Units Nos. 1 and 2, and Turkey Point Nuclear Generating Unit Nos. 3 and 4); NextEra Energy Seabrook, LLC (for the Seabrook Station, Unit No. 1); Duke Energy Progress, LLC (for the Shearon Harris Nuclear Power Plant, Unit 1); STP Nuclear Operating Company (for the South Texas Project, Units 1 and 2), allow these licensees temporary exemptions from certain requirements of 10 CFR part 73, appendix B, “General Criteria for Security Personnel,” section VI. The exemptions will help to ensure that these regulatory requirements do not unduly limit licensee flexibility in using personnel resources in a manner that most effectively manages the impacts of the COVID-19 PHE on maintaining the safe and secure operation of these facilities and the implementation of a licensee's NRC-approved security plans, protective strategy, and implementing procedures. These licensees have committed to certain security measures to ensure response readiness and for their security personnel to maintain performance capability.

The NRC is providing compiled tables of exemptions using a single Federal Register notice for COVID-19-related exemptions instead of issuing individual Federal Register notices for each exemption. The compiled tables below provide transparency regarding the number of exemptions the NRC is issuing. Additionally, the NRC publishes tables of approved regulatory actions related to the COVID-19 PHE on its public website at https://www.nrc.gov/about-nrc/covid-19/reactors/licensing-actions.html.

II. Availability of Documents

The tables below provide the facility name, docket number, document title, and ADAMS accession number for each exemption issued. Additional details on each exemption issued, including the exemption request submitted by the respective licensee and the NRC's decision, are provided in each exemption approval listed on the tables below. For additional directions on accessing information in ADAMS, see the ADDRESSES section of this document.

Document title | ADAMS accession No.
Callaway Plant, Unit No. 1—Docket No. 50-483
Callaway Plant, Unit 1—Security Training Exemption Request due to COVID-19, dated June 4, 2020 | ML20156A191 (non-public, withheld under 10 CFR 2.390).
Callaway, Unit 1—Supplement to Security Training Exemption Request Due to COVID-19, dated June 17, 2020 | ML20169A542.
Callaway Plant, Unit 1—Exemption Request from Certain Requirement of 10 CFR PART 73, Appendix B, “General Criteria for Security Personnel,” Section VI (EPID L-2020-LLE-0097 [COVID-19]), dated June 23, 2020 | ML20169A446.
Diablo Canyon Nuclear Power Plant, Units 1 and 2—Docket Nos. 50-275 and 50-323
Diablo Canyon Units 1 and 2—Request for One-Time Exemption from 10 CFR 50.71(e)(4) UFSAR and TS Bases Update Requirements, dated May 14, 2020 | ML20135H021.
Diablo Canyon Nuclear Power Plant, Units 1 and 2—Approval of Exemption from the Requirements of 10 CFR 50.71(e)(4) (EPID L-2020-LLE-0059 [COVID-19]), dated June 2, 2020 | ML20140A356.
Diablo Canyon Nuclear Power Plant, Units 1 and 2—Docket Nos. 50-275 and 50-323
Diablo Canyon Power Plant, Units 1 and 2—Request for Exemption from Specific Requirements of 10 CFR 73, Force-on-Force Requirements, dated June 17, 2020 | ML20169A354 (non-public, withheld under 10 CFR 2.390).
Diablo Canyon Nuclear Power Plant, Units 1 and 2—Exemption Request from Certain Requirements of 10 CFR Part 73, Appendix B, “General Criteria for Security Personnel,” Section VI (EPID L-2020-LLE-0101 [COVID-19]), dated June 24, 2020 | ML20170A319.
Edwin I. Hatch Nuclear Plant, Unit Nos. 1 and 2, and Joseph M. Farley Nuclear Plant, Units 1 and 2—Docket Nos. 50-321, 50-366, 50-348, and 50-364
SNC Requests a Temporary Exemption from the Quarterly Fire Brigade Drills and Annual Live Fire Fighting Training Requirements of the Regulation, dated May 22, 2020 | ML20143A253.
SNC Requests a Temporary Exemption from the Quarterly Fire Brigade Drills and Annual Live Fire Fighting Training Requirements of the Regulation, dated May 27, 2020 | ML20149K302.
Edwin I. Hatch Nuclear Plant, Unit Nos. 1 and 2—Exemption Request from Requirements of 10 CFR 50.48(b), Section III.I. of Appendix R Related to Quarterly Fire Brigade Drills (EPID L-2020-LLE-0070), dated June 2, 2020 | ML20147A147.
Edwin I. Hatch Nuclear Plant, Units 1 and 2—Approval of Exemption Request from Requirements of 10 CFR 50.48(b), Section III.I of Appendix R Related to Annual Live Fire Fighting Training (EPID L-2020-LLE-0071), dated June 2, 2020 | ML20147A133.
Joseph M. Farley Nuclear Plant, Units 1 and 2—Approval of Exemption from Requirements of 10 CFR 50.48 Related to Quarterly Fire Brigade Drills (EPID L-2020-LLE-0074 [COVID-19]), dated June 2, 2020 | ML20147A171.
Joseph M. Farley Nuclear Plant, Units 1 and 2—Approval of Exemption from Requirements of 10 CFR 50.48 Related to Annual Live Fire Fighting Training (EPID L-2020-LLE-0075 [COVID-19]), dated June 2, 2020 | ML20147A465.
Edwin I. Hatch Nuclear Plant, Unit Nos. 1 and 2, and Joseph M. Farley Nuclear Plant, Units 1 and 2—Docket Nos. 50-321, 50-366, 50-348, and 50-364
Edwin I. Hatch Nuclear Plant, Units 1 and 2 (HNP) and Joseph M. Farley Nuclear Plant, Units 1 and 2 (FNP) Request Temporary Exemptions from the identified Security Training Requalification Requirement, dated June 19, 2020 | ML20171A485 (non-public, withheld under 10 CFR 2.390).
Joseph M. Farley Nuclear Plant, Units 1 and 2, and Edwin I. Hatch Nuclear Plant, Units 1 and 2—Exemption Request from Certain Requirements of 10 CFR Part 73, Appendix B, “General Criteria for Security Personnel,” Section VI, dated June 29, 2020 | ML20175A121.
Indian Point Nuclear Generating Unit Nos. 2 and 3—Docket Nos. 50-247 and 50-286
Indian Point Nuclear Generating Unit Nos. 2 and 3—(04/29/2020) Email from R. Gaston to R. Guzman, Exemption Request from Requirements of 10 CFR Part 73, Appendix B, Section VI, Subsection C.3.(l)(1), dated April 29, 2020 | ML20125A327.
Indian Point; Exemption from Annual Force-on-Force (FoF) Exercise, dated May 27, 2020 | ML20148M389.
Indian Point Nuclear Generating Unit Nos. 2 and 3—Exemption Request from Certain Requirements of 10 CFR Part 73, Appendix B, “General Criteria for Security Personnel,” Section VI (EPID L-2020-LLE-0050 [COVID-19]), dated June 12, 2020 | ML20156A057.
James A. FitzPatrick Nuclear Power Plant—Docket No. 50-333
James A. FitzPatrick Nuclear Power Plant—Request for Exemption from Certain 10 CFR Part 73 Training Requirements Due to Coronavirus 2019 Public Health Emergency, dated May 29, 2020 | ML20153A381 (non-public, withheld under 10 CFR 2.390).
James A. FitzPatrick Nuclear Power Plant, Supplemental Information to Request for Exemption from Certain 10 CFR Part 73 Training Requirements Due to Coronavirus 2019 Public Health Emergency, dated June 4, 2020 | ML20156A152 (non-public, withheld under 10 CFR 2.390).
James A. FitzPatrick Nuclear Power Plant—Exemption Request from Certain Requirements of 10 CFR Part 73, Appendix B, “General Criteria for Security Personnel” (EPID L-2020-LLE-0094 [COVID-19]), dated June 29, 2020 | ML20164A210.
McGuire Nuclear Station, Units 1 and 2—Docket Nos. 50-369 and 50-370
McGuire Nuclear Station, Unit Nos. 1 and 2—Request a Temporary Exemption from the Identified Security Training Requalification, dated June 4, 2020 | ML20156A411 (non-public, withheld under 10 CFR 2.390).
McGuire Nuclear Station, Unit 1 and 2—Temporary Exemption from Certain Requirements of 10 CFR Part 73, Appendix B, “General Criteria for Security Personnel,” Section VI (EPID L-2020-LLE-0095 [COVID 19]), dated June 23, 2020 | ML20159A002.
Millstone Power Station, Unit Nos. 1, 2, and 3—Docket Nos. 50-245, 50-336, and 50-423
Millstone Power Station Units 1, 2, and 3—Request for Exemption from Select Requirements of 10 CFR Part 73, Appendix B, Section VI, dated May 28, 2020 | ML20149K676 (non-public, withheld under 10 CFR 2.390).
Millstone Power Station, Unit Nos. 1, 2, and 3—Exemption Request from Certain Requirements of 10 CFR Part 73, Appendix B, “General Criteria for Security Personnel,” Section VI (EPID L-2020-LLE-0092 [COVID-19]), dated June 12, 2020 | ML20161A409.
North Anna Power Station, Unit Nos. 1 and 2—Docket Nos. 50-338 and 50-339
North Anna Power Station Units 1 and 2, Request for Exemption from Select Requirements of 10 CFR Part 73, Appendix B, Section VI, dated May 28, 2020 | ML20149K650 (non-public, withheld under 10 CFR 2.390).
North Anna Power Station, Unit Nos. 1 and 2—Temporary Exemption from Certain Requirements of 10 CFR Part 73, Appendix B, “General Criteria for Security Personnel,” Section VI (EPID L-2020-LLE-0090 [COVID-19], dated June 12, 2020 | ML20150A292.
Point Beach Nuclear Plant, Units 1 and 2—Docket Nos. 50-266 and 50-301
Point Beach Nuclear Plant, Units 1 and 2—Exemption Request for Security Training Requirements due to COVID-19 Pandemic, dated May 21, 2020 | ML20142A368 (non-public, withheld under 10 CFR 2.390).
Point Beach Nuclear Plant, Units 1 and 2—Exemption Request from Certain Requirements of 10 CFR Part 73, Appendix B, “General Criteria for Security Personnel,” Section VI (EPID L-2020-LLE-0081 to L-2020-LLE-0088 [COVID-19]), dated June 15, 2020 | ML20153A011.
R. E. Ginna Nuclear Power Plant—Docket No. 50-244
R. E. Ginna Nuclear Power Plant—Request for Exemption from Certain 10 CFR Part 73 Training Requirements Due to Coronavirus 2019 Public Health Emergency, dated June 8, 2020 | ML20161A147 (non-public, withheld under 10 CFR 2.390).
R. E. Ginna Nuclear Power Plant—Exemption Request from Certain Requirements of 10 CFR Part 73, Appendix B, “General Criteria for Security Personnel” (EPID L-2020-LLE-0099 [COVID-19]), dated June 24, 2020 | ML20156A151.
St. Lucie Plant, Unit Nos. 1 and 2—Docket No. 50-335 and 50-389
St. Lucie Nuclear Plant, Units 1 and 2—Exemption Request for Security Training Requirements due to COVID-19 Pandemic, dated May 21, 2020 | ML20142A479 (non-public, withheld under 10 CFR 2.390).
St. Lucie Nuclear Plant, Units 1 and 2—Exemption Request from Certain Requirements of 10 CFR Part 73, Appendix B, “General Criteria for Security Personnel,” Section VI (EPID L-2020-LLE-0077 [COVID-19]), dated June 9, 2020 | ML20155K712.
Seabrook Station, Unit No. 1—Docket No. 50-443
Seabrook Station—Exemption Request for Security Training Requirements due to COVID-19 Pandemic, dated May 21, 2020 | ML20142A374 (non-public, withheld under 10 CFR 2.390).
Seabrook Station—Supplement to SBK-L-20066, Exemption Request for Security Training Requirements due to COVID-19 Pandemic, dated May 22, 2020 | ML20143A093 (non-public, withheld under 10 CFR 2.390).
Seabrook Station, Unit No. 1—Exemption Request from Certain Requirements of 10 CFR Part 73, Appendix B, “General Criteria for Security Personnel,” Section VI (EPID L-2020-LLE-0069 [COVID-19]), dated June 8, 2020 | ML20143A273.
Shearon Harris Nuclear Power Plant, Unit 1—Docket No. 50-400
Shearon Harris Nuclear Power Plant, Unit 1—Security Training Requalification Exemption Request, dated May 20, 2020 | ML20141L635 (non-public, withheld under 10 CFR 2.390).
Shearon Harris Nuclear Power Plant, Unit 1—Temporary Exemption from Certain Requirements of 10 CFR Part 73, Appendix B, “General Criteria for Security Personnel,” Section VI (EPID L-2020-LLE-0064 [COVID-19]), dated June 9, 2020 | ML20142A185.
South Texas Project, Units 1 and 2—Docket Nos. 50-498 and 50-499
South Texas Project, Units 1 and 2—Exemption Request due to COVID-19 Pandemic, dated May 21, 2020 | ML20142A520.
South Texas Project, Units 1 and 2—Temporary Exemption from Certain Requirements of 10 CFR Part 73, Appendix B, “General Criteria for Security Personnel,” Section VI (EPID L-2020-LLE-0076 [COVID-19]), dated June 18, 2020 | ML20155K679.
Three Mile Island Nuclear Station, Unit 1—Docket No. 50-289
Three Mile Island Nuclear Station, Unit 1, Request for Temporary Exemption from Certain 10 CFR Part 73 Training Requirements Due to Coronavirus 2019 Public Health Emergency, dated June 5, 2020 | ML20157A209 (non-public, withheld under 10 CFR 2.390).
Three Mile Island Nuclear Station, Unit 1—Exemption Request from Certain Requirements of 10 CFR Part 73, Appendix B, “General Criteria for Security Personnel” (EPID L-2020-LLE-0096 [COVID-19]), dated June 30, 2020 | ML20161A391.
Turkey Point Nuclear Generating Unit Nos. 3 and 4—Docket Nos. 50-250 and 50-251
Turkey Point Nuclear Plant, Units 3 and 4—Exemption Request for Security Training Requirements due to COVID-19 Pandemic, dated May 21, 2020 | ML20142A273 (non-public, withheld under 10 CFR 2.390).
Turkey Point Nuclear Point, Units 3 and 4—Issuance of Temporary Exemption Concerning Security Training Requirements (EPID L-2020-LLA-0067), dated June 15, 2020 | ML20149K606.

The NRC may post additional materials to the Federal rulemaking website at https://www.regulations.gov under Docket ID NRC-2020-0110. The Federal rulemaking website allows you to receive alerts when changes or additions occur in a docket folder. To subscribe: (1) Navigate to the docket folder (NRC-2020-0110); (2) click the “Sign up for Email Alerts” link; and (3) enter your email address and select how frequently you would like to receive emails (daily, weekly, or monthly).

Dated: July 15, 2020.
For the Nuclear Regulatory Commission.
James G. Danna,
Chief, Plant Licensing Branch I, Division of Operating Reactor Licensing, Office of Nuclear Reactor Regulation.

[FR Doc. 2020-15619 Filed 7-17-20; 8:45 am]

BILLING CODE 7590-01-P